DEPARTMENT OF THE INTERIOR

National Park Service

[NPS-WASO-NAGPRA-NPS0032045; PPWOCRADN0-PCU00RP14.R50000]

Notice of Inventory Completion: University of Pennsylvania Museum of Archaeology and Anthropology, Philadelphia, PA

AGENCY: National Park Service, Interior.

ACTION: Notice.

SUMMARY: The University of Pennsylvania Museum of Archaeology and Anthropology has completed an inventory of human remains and associated funerary object, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the University of Pennsylvania Museum of Archaeology and Anthropology. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the University of Pennsylvania Museum of Archaeology and Anthropology at the address in this notice by July 8, 2021.

FOR FURTHER INFORMATION CONTACT: Dr. Christopher Woods, Williams Director, University of Pennsylvania Museum of Archaeology and Anthropology, 3260 South Street, Philadelphia, PA 19104-6324, telephone (215) 898-4050, email director@pennmuseum.org.

SUPPLEMENTARY INFORMATION: Notice is here given in accordance with the Native American Graves Protection and Repatriation Act (NAGPRA), 25 U.S.C. 3003, of the completion of an inventory of human remains and associated funerary object under the control of the University of Pennsylvania Museum of Archaeology and Anthropology, Philadelphia, PA. The human remains and associated funerary object were removed from Lalor and Wright Fields site (28ME10), Mercer County, NJ.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the University of Pennsylvania Museum of Archaeology and Anthropology professional staff in consultation with representatives of the Delaware Nation, Oklahoma; Delaware Tribe of Indians; and the Stockbridge Munsee Community, Wisconsin (hereafter referred to as “The Tribes”).

History and Description of the Remains

In November 1890, human remains representing, at minimum, two individuals (record numbers 8286 and 8292) were removed from “ash pits” near Trenton, Mercer County, NJ, by Ernest Volk (b. 1845-d. 1919), according to the Museum's records. At the time, Volk was an archeologist working under the aegis of the Harvard Peabody Museum of Archaeology and Ethnology. Based on what is known about Volk's fieldwork activities (as gleaned from his notes of November 1890 and other, published information), these human remains most likely were removed from Lalor and Wrights Field site (28ME10). According to Volk's records, he dug two trenches at Lalor Field during November 3-8, 1890. In one, he found features that he labeled “Potholes.” Volk described the presence of bone, ash or charcoal (or both), lithics, pottery, and faunal remains. Based on this description, the Museum's records, and consultation information, the above listed human remains most likely were removed from these “Potholes” or from other features located during the Lalor Field excavations. That same month, these human remains were gifted to the University of Pennsylvania Museum of Archaeology and Anthropology by Carl Edelheim and Clarence S. Bement, both of whom were associated with the University of Pennsylvania and its museum. How the human remains came to be in the possession of Edelheim and Bement is unclear. The human remains—cranial elements—belong to two adults of undetermined sex. No known individuals were identified. The one associated funerary object is an unidentified animal bone (record number 8290).

The archeological evidence from Lalor Field indicates this site dates to the Middle and Late Woodland Period. These human remains were determined to be Native American based on their archeological context and collection history. Archeological, consultation, historical, and linguistic information, and oral tradition support a cultural affiliation of this Woodland site with the Delaware (Lenape). Today, the Lenape are represented by three Indian Tribes—the Delaware Nation, Oklahoma; Delaware Tribe of Indians; and the Stockbridge Munsee Community, Wisconsin.

Determinations Made by the University of Pennsylvania Museum of Archaeology and Anthropology

Officials of the University of Pennsylvania Museum of Archaeology and Anthropology have determined that:

• Pursuant to 25 U.S.C. 3001(9), the human remains described in this notice represent the physical remains of two individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and The Tribes.

Additional Requestors and Disposition

Lineal descendants or representatives of any Indian Tribe or Native Hawaiian organization not identified in this notice that wish to request transfer of control of these human remains and associated funerary object should submit a written request with information in support of the request to Dr. Christopher Woods, Williams Director, University of Pennsylvania Museum of Archaeology and Anthropology, 3260 South Street, Philadelphia, PA 19104-6324, telephone (215) 898-4050, email director@pennmuseum.org, by July 8, 2021. After that date, if no additional requestors have come forward, transfer of control of the human remains and associated funerary object to The Tribes may proceed.

The University of Pennsylvania Museum of Archaeology and Anthropology is responsible for notifying The Tribes that this notice has been published.

Dated: May 25, 2021.
Melanie O'Brien,
Manager, National NAGPRA Program.

[FR Doc. 2021-11943 Filed 6-7-21; 8:45 am]

BILLING CODE 4312-52-P